DEPARTMENT OF HEALTH AND HUMAN SERVICES

Centers for Disease Control and Prevention

[30Day-71-03]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Work-related Assaults Treated In Hospital Emergency Departments (OMB Control No. 0920-0575)—Reinstatement without change—The National Institute for Occupational Safety and Health (NIOSH), Centers for Disease Control and Prevention (CDC). Workplace violence, both fatal and nonfatal, is recognized as an important occupational safety and health issue. Various data systems have provided fairly detailed information on fatal workplace violence, but much less is known about the circumstances and risk factors for nonfatal workplace violence. A number of strategies have been suggested for reducing the incidence and severity of workplace violence in various settings (e.g., taxicabs, health care, law enforcement, social services), yet, little empirical knowledge exists about what has been implemented and what impact such strategies may have. The report, Workplace Violence: A Report to the Nation, published by the University of Iowa based on recommendations from a workshop of experts states, “* * * research focused on a much broader understanding of the scope and impact of workplace violence is urgently needed to reduce the human and financial burden of this significant public health problem.” In 2000, there were 677 workplace homicides in the U.S. From 1993-1999, there were an estimated 1.7 million non-fatal victimizations “while at work or on duty” every year, accounting for 18 percent of all violent crime during the seven-year period.

The Consumer Product Safety Commission (CPSC) maintains a database of injuries treated in a nationally-representative sample of U.S. hospital emergency departments (ED) called the National Electronic Injury Surveillance System (NEISS). Data routinely collected through NEISS include a brief narrative description of the injury event as well as basic demographic information, intent and mechanism of injury, work-relatedness, principal diagnosis, part of body affected, location where the injury occurred, involvement of consumer products, and disposition at ED discharge. For assaults, summary data are also being collected on the relationship of the perpetrator to the injured person and the context (e.g., altercation, robbery, sexual assault, etc.). For work-related cases, occupation and industry information is collected. The data system does not include any information on issues such as the specific workplace circumstances and risk factors for workplace violence, security measures in place in the workplace and whether they were utilized/worked appropriately, training in workplace violence risk factors and prevention strategies, previous incidents of workplace violence, return to work after assault, and other specific workplace violence information.

In December 2001, Congress directed NIOSH to develop an intramural and extramural prevention research program that will target all aspects of workplace violence. For the last ten years, NIOSH has been collaborating with CPSC to collect surveillance data on work-related injuries treated in the NEISS EDs. In addition, NIOSH has utilized the capacity of NEISS to incorporate follow-back surveys. Follow-back surveys allow collection of first-hand, detailed knowledge that does not exist in administrative or other records. CPSC routinely uses this mechanism to collect information on various types of injuries (e.g., fireworks-related injuries, injuries to children in baby walkers, etc.). NIOSH has used this mechanism to collect information on the circumstances of injury, training, protective equipment (if appropriate), and other issues important to more fully understanding the risk factors for work-related injuries and to make appropriate recommendations for preventing other such injuries in the future.

The current proposed study will consist of a telephone interview survey of workers treated in NEISS hospital emergency departments for injuries sustained during a work-related assault over a one-year period. CPSC will hire a contractor to conduct the actual telephone interviews. NIOSH will review potential cases to identify those cases that should be forwarded to the contractor for interview. The survey includes an extended narrative description of the injury incident as well as items regarding general workplace organization; personal characteristics of the worker; work tasks at the time of the assault; training on workplace violence risk factors and prevention strategies; security measures in place and how they impacted the outcome of the incident; medical care received for injuries; time away from work; and return to work after the assault. This study will provide critical information for understanding the nature and impact of nonfatal assault among U.S. workers. In combination with data collected from other sources, this information will ultimately contribute to the prevention of violence in the workplace. The annualized burden for this data collection is 227 hours.

Survey | Number of respondents | Number of responses/respondent | Avg. burden/response (hours)
Work-related assaults treated in hospital emergency departments | 680 | 1 | 20/60

Dated: September 26, 2003.
Nancy Cheal,
Acting Associate Director for Policy, Planning and Evaluation, Centers for Disease Control and Prevention.

[FR Doc. 03-24998 Filed 10-1-03; 8:45 am]

BILLING CODE 4163-18-P